DEPARTMENT OF JUSTICE

Drug Enforcement Administration

[Docket No. DEA-1176]

Bulk Manufacturer of Controlled Substances Application: SpecGx LLC; Correction

AGENCY: Drug Enforcement Administration, Justice.

ACTION: Notice; correction.

SUMMARY: The Drug Enforcement Administration (DEA) published a document in the Federal Register of April 4, 2023, concerning a notice of application for bulk manufacturer of Controlled Substances. That document listed a drug code/controlled substance in error as it was not requested by the registrant (2270—Pentobarbital). Additionally, the document listed duplicates of 7 other drug codes in error (1100, 1105, 1205, 1724, 8333, 9780, 9801).

SUPPLEMENTARY INFORMATION:

Correction

In the Federal Register of April 4, 2023, in FR Doc. 2023-06952 (88 FR 19990), on page 19990, in columns 1 and 2, under the requested controlled substances/drug codes, it should read as such:

Controlled substance | Drug code | Schedule
Gamma Hydroxybutyric Acid | 2010 | I
Tetrahydrocannabinols | 7370 | I
Psilocybin | 7437 | I
Codeine-N-oxide | 9053 | I
Noroxymorphone | 9145 | I
Difenoxin | 9168 | I
Morphine-N-oxide | 9307 | I
Normorphine | 9313 | I
Alphamethadol | 9605 | I
Betamethadol | 9609 | I
Norlevorphanol | 9634 | I
Acetyl Fentanyl (N-(1-phenethylpiperidin-4-yl)-N-phenylacetamide) | 9821 | I
Butyryl Fentanyl | 9822 | I
Fentanyl related-compounds as defined in 21 CFR 1308.11(h) | 9850 | I
Amphetamine | 1100 | II
Methamphetamine | 1105 | II
Lisdexamfetamine | 1205 | II
Methylphenidate | 1724 | II
Nabilone | 7379 | II
ANPP (4-Anilino-N-phenethyl-4-piperidine) | 8333 | II
Phenylacetone | 8501 | II
Codeine | 9050 | II
Dihydrocodeine | 9120 | II
Oxycodone | 9143 | II
Hydromorphone | 9150 | II
Diphenoxylate | 9170 | II
Ecgonine | 9180 | II
Hydrocodone | 9193 | II
Levorphanol | 9220 | II
Isomethadone | 9226 | II
Meperidine | 9230 | II
Meperidine intermediate-A | 9232 | II
Meperidine intermediate-B | 9233 | II
Meperidine intermediate-C | 9234 | II
Methadone | 9250 | II
Methadone intermediate | 9254 | II
Dextropropoxyphene, bulk (non-dosage forms) | 9273 | II
Morphine | 9300 | II
Oripavine | 9330 | II
Thebaine | 9333 | II
Opium tincture | 9630 | II
Opium, powdered | 9639 | II
Oxymorphone | 9652 | II
Noroxymorphone | 9668 | II
Alfentanil | 9737 | II
Remifentanil | 9739 | II
Sufentanil | 9740 | II
Tapentadol | 9780 | II
Fentanyl | 9801 | II

Claude Redd,
Acting Deputy Assistant Administrator.

[FR Doc. 2023-19179 Filed 9-5-23; 8:45 am]

BILLING CODE P